DEPARTMENT OF VETERANS AFFAIRS

National Research Advisory Council, Notice of Meeting

The Department of Veterans Affairs (VA) gives notice under the Federal Advisory Committee Act, 5 U.S.C. Ch. 10, that the National Research Advisory Council (NRAC) will hold a meeting on Wednesday, December 17, 2025, via Teams. The teleconference number is 1-872-701-0185, Phone Conference ID: 452 666 633# or the meeting link is: https://teams.microsoft.com/l/meetup-join/19%3ameeting_NWI0ZjZiMDItN2ZlNi00MzQ2LWI2YWMtMzk3ZjM0OWVkY2Nl%40thread.v2/0?context=%7b%22Tid%22%3a%22e95f1b23-abaf-45ee-821d-b7ab251ab3bf%22%2c%22Oid%22%3a%22bbe000de-64c3-4465-99a0-83e8fddd9836%22%7d.

The meeting will convene at 11:00 a.m. and end at approximately 3:00 p.m. Eastern Standard Time. This meeting is open to the public and will include time reserved for public comments at the end of the meeting. The public comment period will be 30 minutes. Individual stakeholders will be given up to 5 minutes to express their comments.

The purpose of NRAC is to advise the Secretary on research conducted by the Veterans Health Administration, including policies and programs targeting the high priority of Veterans' health care needs.

On December 17, 2025, the agenda will include a summary of the previous meeting, discussion on research collaborations between the Department of Veterans Affairs and Department of Defense; presentations from the NRAC subcommittees; and public comments.

Members of the public may submit written statements for review by the NRAC in advance of the meeting. Public comments may be received no later than close of business December 12, 2025, for inclusion in the official meeting record. Please send statements to Amanda Garcia, Designated Federal Officer, Office of Research and Development (14RD), Department of Veterans Affairs, 811 Vermont Avenue NW, Washington, DC 20420, at 202-304-3540, or Amanda.Garcia@va.gov. Any member of the public seeking additional information should contact Amanda Garcia at the above phone number or email address noted above.

Dated: November 21, 2025.
LaTonya L. Small,
Federal Advisory Committee Management Officer.

[FR Doc. 2025-21118 Filed 11-25-25; 8:45 am]

BILLING CODE 8320-01-P